ENVIRONMENTAL PROTECTION AGENCY

[FRL OP-OFA-126]

Environmental Impact Statements; Notice of Availability

Responsible Agency: Office of Federal Activities, General Information 202-564-5632 or https://www.epa.gov/nepa.

Weekly receipt of Environmental Impact Statements (EIS)

Filed May 6, 2024 10 a.m. EST Through May 13, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240080, Final Supplement, BLM, WY, Buffalo Field Office Final Supplemental Environmental Impact Statement and Proposed Resource Management Plan, Review Period Ends: 06/17/2024, Contact: Thomas Bills 307-684-1133.

EIS No. 20240081, Final Supplement, BLM, MT, Miles City Field Office Final Supplemental Environmental Impact Statement and Proposed Resource Management Plan, Review Period Ends: 06/17/2024, Contact: Irma Nansel 406-233-3653.

EIS No. 20240082, Final, NRCS, WI, Coon Creek Watershed, Review Period Ends: 06/17/2024, Contact: Joshua Odekirk 262-470-2064.

EIS No. 20240083, Final, NRCS, WI, West Fork Kickapoo Watershed, Review Period Ends: 06/17/2024, Contact: Joshua Odekirk 262-470-2064.

Dated: May 13, 2024.
Cindy S. Barger,
Director, NEPA Compliance Division, Office of Federal Activities.

[FR Doc. 2024-10857 Filed 5-16-24; 8:45 am]

BILLING CODE 6560-50-P